DEPARTMENT OF AGRICULTURE

Farm Service Agency

Request for Revision and Extension of a Currently Approved Information Collection

AGENCY: Farm Service Agency, USDA.

ACTION: Notice and request for comments.

SUMMARY: In accordance with the Paperwork Reduction Act of 1995, this notice announces the intent of the Farm Service Agency (FSA) to request extension and revision of the information collection currently approved for Form FSA 440-32, used in support of the FSA Farm Loan Programs (FLP). Form FSA 440-32 has been revised for clarification in conjunction with renewal of the paperwork burden package.

DATES: Comments on this notice must be received on or before February 25, 2002 to be assured consideration.

FOR FURTHER INFORMATION CONTACT: Bashir Duale, USDA, Farm Service Agency, Loan Making Division, 1400 Independence Avenue, SW., STOP 0522, Washington, DC 20250-0522; Telephone (202) 720-1645; Electronic mail: bashir_duale@wdc.usda.gov.

SUPPLEMENTARY INFORMATION: Title: Form FSA 440-32, Verification of Debts and Assets.

OMB Control Number: 0560-0166.

Expiration Date of Approval: February 17, 2002.

Type of Request: Revision and Extension of a Currently Approved Information Collection.

Abstract: FSA 440-32 is necessary to ensure the accuracy of information obtained in connection with applications for FSA direct loan assistance. It is used to verify debt information provided by applicants in order to determine their suitability for an Operating, Farm Ownership or Emergency loan. Additionally, it is used by FSA to verify debts and assets of borrowers requesting primary and preservation loan servicing or debt settlement.

Estimate of Burden: Public reporting burden for this collection of information is estimated to average 15 minutes per response.

Respondents: Individual farmers, farm or other business entities and financial institutions.

Estimated Number of Respondents: 22,547

Estimated Number of Responses Per Respondent: 2

Estimated Total Annual Burden On Respondents: 11,274

Comments are invited on the following: (a) Whether the collection of information is necessary for the proper performance of the functions of the agency, including whether the information will have practical utility; (b) the accuracy of the agency's estimate of burden, including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Bashir Duale, Senior Loan Officer, USDA, Farm Service Agency, Loan Making Division, 1400 Independence Avenue, SW., STOP 0522, Washington, DC 20250-0522.

Comments will be summarized and included in the request for OMB approval of the information collection. All comments will also become a matter of public record.

Signed in Washington, DC on December 17, 2001.
James R. Little,
Administrator, Farm Service Agency.

[FR Doc. 01-31601 Filed 12-21-01; 8:45 am]

BILLING CODE 3410-05-P